DEPARTMENT OF COMMERCE

International Trade Administration

Correction to Notice of Opportunity To Request Administrative Review

AGENCY: Enforcement and Compliance, International Trade Administration, Department of Commerce.

FOR FURTHER INFORMATION CONTACT: Brenda E. Brown, AD/CVD Operations, Customs Liaison Unit, Enforcement and Compliance, International Trade Administration, U.S. Department of Commerce, 1401 Constitution Avenue NW, Washington, DC 20230; telephone: (202) 482-4735.

SUPPLEMENTARY INFORMATION:

Background

On October 1, 2019, Commerce published its opportunity to request administrative review of the antidumping duty orders and inadvertently omitted the following suspension agreements: Uranium from the Russian Federation (A-821-802), POR 10/1/2018-9/30/2019; and Lemon Juice from Argentina (A-357-818), POR 10/1/2018-9/30/2019. See Antidumping or Countervailing Duty Order, Finding, or Suspended Investigation; Opportunity To Request Administrative Review, 84 FR 52068 (October 1, 2019). This notice serves as a correction to include Uranium from the Russian Federation and Lemon Juice from Argentina in the referenced notice.

Dated: October 9, 2019.
James Maeder,
Deputy Assistant Secretary for Antidumping and Countervailing Duty Operations.

[FR Doc. 2019-22517 Filed 10-15-19; 8:45 am]

BILLING CODE 3510-DS-P